DEPARTMENT OF THE INTERIOR

Fish and Wildlife Service

[FWS-R2-ES-2008-N0317]; [20124-1112-0000-F2]

Town of Marana Habitat Conservation Plan, Pima County, AZ

AGENCY: Fish and Wildlife Service, Interior.

ACTION: Notice of availability: draft environmental impact statement and draft habitat conservation plan in support of an incidental take permit application.

SUMMARY: We, the U.S. Fish and Wildlife Service (Service), have received an application from the Town of Marana (Applicant) for an incidental take permit (ITP) under the Endangered Species Act of 1973 (Act). The Applicant has been assigned permit number TE-204887-0. If approved, the permit would be for a period of 25 years, and would authorize incidental take of two species currently listed under the Act, and 11 species that may become listed under the Act in the future (collectively “covered species”). The proposed incidental take would occur in Pima County, Arizona, as a result of impacts on covered species and occupied habitat from specified actions conducted under the authority of the Town of Marana. We request public comments on the application and associated documents, and announce our plan to hold public meetings.

DATES: Public meetings: We will accept oral and written comments at two public meetings, which we will hold on April 2, 2009, April 15, 2009, and April 16, 2009, from 6 p.m. to 8 p.m. We must receive any requests for additional public meetings, in writing, at the address shown in the ADDRESSES section by April 1, 2009.

Comment-period end: To ensure consideration, we must receive any comments on or before May 1, 2009.

ADDRESSES: For where to review documents and submit comments, and public meeting locations, see “Reviewing Documents and Submitting Comments” in SUPPLEMENTARY INFORMATION.

FOR FURTHER INFORMATION CONTACT: Draft EIS: Mr. Scott Richardson, Tucson Suboffice, U.S. Fish and Wildlife Service, 201 N. Bonita Ave., Suite 141, Tucson, AZ 85745; 520/670-6150 x 242.

Application and Draft HCP: Ms. Jennifer Christelman or Ms. Janine Spencer, Town of Marana, 11555 W. Civic Center Dr., Marana, AZ 85653 or Mr. Colby Henley, RECON, 525 West Wetmore Road, Suite 111, Tucson, AZ 85705. Information regarding the HCP can also be obtained on the Internet at http://www.marana.com/hcp.

SUPPLEMENTARY INFORMATION: Under the National Environmental Policy Act (NEPA), we announce that we have gathered the information necessary to: (1) Determine the impacts and formulate alternatives for the EIS, related to the potential issuance of an ITP to the Applicant; and (2) approve the HCP, which provides measures to minimize and mitigate the effects of the proposed incidental take of federally listed species to the maximum extent practicable, pursuant to section 10(a)(1)(B) of the Act (16 U.S.C. 1531 et seq.).

If we approve it, the 25-year permit would authorize the proposed incidental take of 13 covered species, including species currently listed under the Act, as well as species that may become listed under the Act in the future: (1) Lesser long-nosed bat (Leptonycteris curasoae yerbabuenae); (2) Southwestern willow flycatcher (Empidonax traillii extimus); (3) Yellow-billed cuckoo (Coccyzus americanus occidentalis); (4) Cactus ferruginous pygmy-owl (Glaucidium brasilianum cactorum); (5) Lowland leopard frog (Rana yavapaiensis); (6) Talus snails (Sonorella spp.); (7) Tucson shovel-nosed snake (Chionactis occipitalis klauberi); (8) Ground snake (Sonora semiannulata); (9) Sonoran desert tortoise (Gopherus agassizii); (10) Merriam's mouse (Peromyscus merriami); (11) Mexican garter snake (Thamnophis eques megalops); (12) Burrowing owl (Athene cunicularia); and (13) Pale Townsend's big-eared bat (Corynorhinus townsendii).

The proposed incidental take would occur within the Town of Marana in Pima County, Arizona, as a result of impacts from actions occurring under the authority of the Applicant. The Applicant has completed a draft HCP as part of the application package, as required by the Act. The application and associated documents provide measures to minimize and mitigate to the maximum extent practicable the effects of the proposed incidental take of covered species and effects to the habitats upon which they depend. We have issued a draft EIS to evaluate the impacts of and alternatives for the possible issuance of an ITP.

Background

The Town of Marana in southern Arizona, including its recent annexation of 21,500 acres of State Trust lands along the Tortolita Fan, contains unique natural resource values within much of its undeveloped lands, including ironwood-dominated Arizona Upland and xeroriparian plant communities along the bajadas (fans) and slopes of the Tortolita Mountains and portions of the Santa Cruz River Corridor. One of the fastest growing communities in Arizona, the town recognizes the need to provide a solid economic base and desirable quality of life for its citizens. Subsequently, town leaders have acknowledged the need to balance economic, environmental, and human interests by implementing a community-wide conservation planning effort. The overall goals of this conservation planning effort are to: (1) Identify Federal, State Trust, County, and private lands that merit inclusion within a scientifically based conservation reserve designed to provide long-term protection for multiple species of concern and key natural communities; (2) identify appropriate mechanisms to best conserve these lands over the long-term; (3) provide for regional economic objectives, including the orderly and efficient development of certain private and State Trust lands and associated public and private infrastructure; (4) contribute to regional conservation planning efforts in eastern Pima County; and (5) facilitate compliance with the Act's Section 10(a)(1)(B) permit requirements.

Purpose and Need for Action

The purpose for which we prepared the draft EIS is to respond to the Applicant's request for an ITP for the proposed covered species related to activities that have the potential to result in incidental take. The Applicant's proposed HCP will balance the protection and conservation of the Town of Marana's unique natural resources with ongoing economic development and urbanization. The Applicant recognizes that the quality of life of its citizens is dependent upon an integrated environment which balances the needs of listed species and their habitats with human needs. The HCP will protect and conserve the covered species and their habitats for the continuing benefit of the people of the United States and provide a means and take steps to conserve the ecosystems depended on by the covered species. The HCP will ensure the long-term survival of the covered species through protection and management of the species and their habitats and ensure compliance with the Act, NEPA, and other applicable laws and regulations, pursuant to section 10(a)(1)(B) of the Act and its implementing regulations and policies.

The need for this action is based on the potential that activities proposed by the Applicant on lands under their jurisdiction could result in the incidental take of covered species, thus requiring an ITP. Section 9 of the Act prohibits the “taking” of threatened and endangered species. However, we are authorized, under limited circumstances, to issue permits to take federally listed species, when such a taking is incidental to, and not the purpose of, otherwise lawful activities. Regulations governing permits for endangered and threatened species are in the Code of Federal Regulations (CFR) at 50 CFR 17.22 and 17.32, respectively. The term “take” under the Act means to harass, harm, pursue, hunt, shoot, wound, kill, trap, capture, or collect endangered and threatened species, or to attempt to engage in any such conduct. Our regulations define “harm” as significant habitat modification or degradation that results in death or injury to listed species by significantly impairing essential behavioral patterns, including breeding, feeding, or sheltering (50 CFR 17.3). The proposed ITP would allow approved incidental take that is consistent with the conservation guidelines in the Applicant's HCP. The development and implementation of the HCP will ensure that the Applicant meets the provisions for issuance of the ITP.

Proposed Action

The requested duration of the ITP is 25 years. The areas covered by the proposed ITP include those areas within the boundaries of the Town of Marana, approximately 76,500 acres. Activities proposed for coverage under the ITP include lawful activities that would occur consistent with Marana's General Plan and include, but are not limited to, maintenance of Marana operations, implementation of capital improvement projects, and issuance of land-use related permits, including those for residential and commercial development. Specific covered activities include road construction, public water infrastructure, parks and trails, airport infrastructure, and residential/commercial/industrial development.

The proposed action is the issuance of an ITP for listed and sensitive species within the Town of Marana in Pima County, Arizona, under section 10(a)(1)(B) of the Act. Incidental take anticipated under this ITP application is species and location specific, but may include direct take of individuals, as well as take in the form of habitat loss or modification. Habitat impacts for covered species range from approximately 100 acres for riparian species to approximately 8,000 acres for species using upland Sonoran desertscrub. The Applicant will develop and implement the HCP, as required by section 10(a)(2)(A) of the Act. The HCP will provide measures to minimize and mitigate the effects of the proposed incidental take on listed and sensitive species and their habitats. The biological goal of the HCP is to provide long-term protection for multiple species of concern and key natural communities through maintaining or improving the habitat conditions and ecosystem functions necessary for their survival and to ensure that any incidental take of listed species will not appreciably reduce the likelihood of the survival and recovery of those species. Mitigation measures include conservation of undisturbed open space, species surveys, habitat restoration, and implementation of conservation guidelines for all types of development and capital improvement projects.

Alternatives

Three alternatives were considered in the development of the draft EIS and draft HCP:

1. No Action/No Permit Alternative—No issuance of an ITP by the Service. This alternative would require the Applicant to evaluate each project or action on a case-by-case basis to address issues under the Act and avoid take of federally listed species. This alternative is the baseline against which the effects of the other alternatives are compared.

2. Town Projects and Actions Only—This alternative would seek ITP coverage for only the Applicant's own actions. Covered activities would only include the Town of Marana's public works and capital improvement projects. Private actions could be covered only through voluntary adoption of the HCP.

3. Town Actions, Discretionary Private Actions, and Voluntary Inclusion—This alternative is the proposed action for which the Applicant is seeking coverage through an ITP. Town actions and projects would be covered, as well as private actions where the Town maintains discretionary authority for approval. As in Alternative 2, private actions not subject to discretionary approval could also be covered through voluntary inclusion.

Reviewing Documents and Submitting Comments

Please refer to TE-204887-0-0 when requesting documents or submitting comments.

Persons wishing to review the application, draft Habitat Conservation Plan (HCP), and draft Environmental Impact Statement (EIS) may obtain copies by calling or faxing the U.S. Fish and Wildlife Service Tucson Suboffice, 201 N. Bonita Ave, Suite 141, Tucson, AZ 85745 (520/670-6144, voice; 520/670-6155, fax). The application, draft HCP, and draft EIS will also be available for public inspection, by appointment, during normal business hours (8 a.m. to 4:30 p.m.) at the Tucson office. During the public comment period (see DATES), submit your written comments or data to the Assistant Field Supervisor at the Tucson address. Comments will also be accepted by fax at the fax number above, as well as by e-mail to scott_richardson@fws.gov.

Public comments submitted are available for public review at the Tucson address listed above. This generally means that any personal information you provide us will be available to anyone reviewing the public comments (see the Public Availability of Comments section below for more information).

Read-only downloadable copies of the application, draft HCP, and draft EIS are available on the internet at http://www.fws.gov/southwest/es/arizona and http://www.marana.com. A printed or CD copy of these documents is available upon request to Ms. Janine Spencer, Town of Marana, 11555 W. Civic Center Dr., Marana, AZ 85653; (520) 382-2600; jspencer@marana.com. Copies of the application, draft HCP, and draft EIS are also available for public inspection and review at the locations listed below (by appointment only at government offices):

• U.S. Fish and Wildlife Service, 201 N. Bonita Ave., Suite 141, Tucson, AZ 85745;

• U.S. Fish and Wildlife Service, 2321 West Royal Palm Road, Suite 103, Phoenix, AZ 85021;

• Nanini Public Library, 7300 N. Shannon Road, Tucson, AZ 85741;

• Pima County Main Library, 101 North Stone Ave., Tucson, AZ 85701,

• Marana Branch Library, 13370 North Lon Adams Road, Marana, AZ 85653; and

• Oro Valley Public Library, 1305 West Naranja Drive, Oro Valley, AZ 85737.

Public Meetings

Three public meetings will take place, on April 2, 2009, at the Marana Municipal Complex, 11555 W. Civic Center Dr., Marana, AZ 85653, from 6 p.m. to 8 p.m., on April 15, 2009, at the Wheeler Taft-Abbett Sr. Library, 7800 N. Schisler Drive, Tucson, AZ 86743, from 6 p.m. to 8 p.m., and on April 16, 2009, at the Heritage Highlands Clubhouse Ballroom, 4949 W. Heritage Club Blvd., Tucson, AZ 85658, from 6 p.m. to 8 pm.

Public Availability of Comments

Written comments we receive become part of the public record associated with this action. Before including your address, phone number, e-mail address, or other personal identifying information in your comment, you should be aware that the entire comment—including your personal identifying information—may be made publicly available at any time. While you can ask us in your comment to withhold your personal identifying information from public review, we cannot guarantee that we will be able to do so.

Authority

We provide this notice under section 10(c) of the Act (16 U.S.C. 1531 et seq.) and its implementing regulations (50 CFR 17.22) and NEPA (42 U.S.C. 4371 et seq.) and its implementing regulations (40 CFR 1506.6).

Thomas L. Bauer,
Acting Regional Director, Region 2, Albuquerque, New Mexico.

[FR Doc. E9-4319 Filed 2-27-09; 8:45 am]

BILLING CODE 4310-55-P